DEPARTMENT OF DEFENSE

Department of the Air Force

32 CFR Part 989

Environmental Impact Analysis Process (EIAP); Correction

AGENCY: Department of the Air Force, DoD.

ACTION: Correcting amendments.

SUMMARY: This document contains corrections to the final rule that was published in the Federal Register of Thursday, July 15, 1999 (64 FR 38127). The rule related to the Air Force process for compliance with the National Environmental Policy Act (NEPA) and Executive Order (E.O.) 12114, Environmental Effects Abroad of Major Federal Actions.

EFFECTIVE DATE: March 26, 2001.

FOR FURTHER INFORMATION CONTACT: Mr. Jack Bush (HQ USAF/ILEB), 1260 Air Force Pentagon, Washington, DC 20330-1260, (703) 604-0553.

SUPPLEMENTARY INFORMATION:

Background

The final rule that is the subject of these corrections integrated environmental analysis and aligned environmental document approval levels with the Air Force decision-making process. It also expanded Air Force environmental participants and responsibilities of the Environmental Planning Function (EPF) and the proponent of an action.

Need for Correction

As published, the final rule contains minor errors that need to be corrected.

List of Subjects in 32 CFR Part 989

Environmental protection, Environmental impact statements.

Accordingly, 32 CFR Part 989 is corrected by making the following amendments:

PART 989—ENVIRONMENTAL IMPACT ANALYSIS PROCESS (EIAP)

1. The authority citation for Part 989 continues to read as follows:

Authority: 10 U.S.C. 8013.

§ 989.1 [Corrected]

2. In § 989.1, paragraph (a), in the last sentence, correct “989.32 and 989.33” to read “989.37 and 989.38.”

3. In § 989.1, paragraph (b), in the second to last sentence, correct “Department of Defense Regulation 5000.2-R, Mandatory Procedures for Major Defense Acquisition Programs and Major Automated Information Systems” to read “Department of Defense Regulation 5000.2-R, Mandatory Procedures for Major Defense Acquisition Programs and Major Automated Information System Acquisition Programs.”

§ 989.3 [Corrected]

4. In § 989.3, paragraph (a)(4)(i), correct “Air Force Instruction (AFI) 35-205, Air Force Security and Policy Review” to read “Air Force Instruction (AFI) 35-101, Public Affairs Policies and Procedures.”

5. In § 989.3, paragraph (a)(4)(iii), correct “AFI 35-202, Environmental Community Involvement” to read “AFI 35-101.”

6. In § 989.3, paragraph (c)(2)(iv), correct “USAF/ILEVP” to read “USAF/ILEB.”

7. In § 989.3, paragraph (d)(7), second sentence, correct “USAF/ILEV” to read “USAF/ILEB.”

8. In § 989.3, paragraph (h)(7), correct “AFI 35-202” to read “AFI 35-101.”

§ 989.5 [Corrected]

9. In § 989.5, paragraph (d), correct “USAF/ILEV” to read “USAF/ILEB.”

§ 989.12 [Corrected]

10. In § 989.12, remove the last sentence.

§ 989.13 [Corrected]

11. In § 989.13, paragraph (c), correct “USAF/ILEV” to read “USAF/ILEB.”

§ 989.14 [Corrected]

12. In § 989.14, paragraph (g), remove the first sentence. In the second sentence correct “through” to read “to,” remove “to HQ USAF/ILEVP,” and correct “is” to read “could be.”

13. In § 989.14, paragraph (h), correct “HQ USAF/ILEVP” to read “HQ USAF/ILEB.”

14. In § 989.14, paragraph (i), correct “HQ USAF/ILEVP” to read “HQ USAF/ILEB.”

15. In § 989.14, paragraph (j), correct “HQ USAF/ILEVP” to read “HQ USAF/ILEB.”

§ 989.17 [Corrected]

16. In § 989.17, correct “HQ USAF/ILEV” to read “HQ USAF/ILEB.”

§ 989.18 [Corrected]

17. In § 989.18, paragraph (a), third to last sentence, correct “AF/ILEV” to read “HQ USAF/ILEB.”

§ 989.19 [Corrected]

18. In § 989.19, paragraph (a), last sentence, correct “USAF/ILEV” to read “HQ USAF/ILEB.”

19. In § 989.19, paragraph (b), correct “HQ USAF/ILEV” to read “HQ USAF/ILEB” in the three places it appears.

20. In § 989.19, paragraph (c)(2), in the first and last sentences, correct “Attachment 3” to read, “Appendix C to this part.” In the fourth sentence, correct “HQ USAF/ILEV” to read “HQ USAF/ILEB.” In the last sentence, correct “HQ USAF/ILEVP” to read “HQ USAF/ILEB.”

§ 989.20 [Corrected]

21. In § 989.20, first and second sentences, correct “HQ USAF/ILEV” to read “HQ USAF/ILEB.”

§ 989.21 [Corrected]

22. In § 989.21, paragraph (a), first sentence, correct “HQ USAF/ILEV” to read “HQ USAF/ILEB.”

23. In § 989.21, paragraph (b), in the first sentence, correct “989.23” to read “989.24.”

§ 989.22 [Corrected]

24. In § 989.22 (a), add a new second sentence after the first sentence to read as follows:

§ 989.22 Mitigation.

(a) * * * If using Best Management Practices (BMPs), identify the specific BMPs being used and include those BMPs in the mitigation plan. * * *

* * * * *

25. In § 989.22, paragraph (b), second to last sentence, correct “HQ USAF/ILEV” to read “HQ USAF/ILEB.”

26. In § 989.22, paragraph (d), last sentence, correct “HQ USAF/ILEV” to read “HQ USAF/ILEB.”

§ 989.29 [Corrected]

27. In § 989.29, correct “HQ USAF/ILXB” to read “HQ USAF/ILEB.”

§ 989.32 [Corrected]

28. In § 989.32, in the fourth sentence, correct “AFI 32-7063, Air Installation Compatible Use Zone” to read “AFI 32-7063, Air Installation Compatible Use Zone (AICUZ) Program.”

§ 989.34 [Corrected]

29. In § 989.34, paragraph (a), last sentence, correct “HQ USAF/ILEV” to read “HQ USAF/ILEB.”

30. In § 989.34, paragraph (b), third sentence, correct “HQ USAF/ILEV” to read “HQ USAF/ILEB.”

§ 989.35 [Corrected]

31. In § 989.35, paragraph (c), correct “AFMAN 37-139, Records Disposition—Standards” to read “AFMAN 37-139, Records Disposition Schedule.”

§ 989.36 [Corrected]

32. In § 989.36, in the first sentence, correct “instruction” to read “part.”

§ 989.38 [Corrected]

33. In § 989.38, paragraph (b), correct “HQ USAF/ILEV” to read “HQ USAF/ILEB.”

34. In § 989.38, paragraph (c), correct “HQ USAF/ILEV” to read “HQ USAF/ILEB.”

35. In § 989.38, paragraph (d), in the three places it appears, correct “HQ USAF/ILEV” to read “HQ USAF/ILEB.”

Appendix A [Corrected]

36. In Appendix A, References, Executive Orders, add after the item “Executive Order 11990, Protection of Wetlands, May 24, 1977” the following new item—“Executive Order 12088, Federal Compliance with Pollution Control Standards.”

37. In Appendix A, References, U.S. Government Agency Publications, correct “Department of Defense Regulation 5000.2-R, Mandatory Procedures for Major Defense Acquisition Programs and Major Automated Information Systems,” to read, “Department of Defense Regulation 5000.2-R, Mandatory Procedures for Major Defense Acquisition Programs and Major Automated Information System Acquisition Programs.”

38. In Appendix A, References, Air Force Publications, remove “AFI 35-202, Environmental Community Involvement” and “AFI 35-205, Air Force Security and Policy Review Program,” and add in their place “AFI 35-101, Public Affairs Policies and Procedures.”

39. In Appendix A, References, Air Force Publications, correct “AFMAN 37-139, Records Disposition—Standards” to read “AFMAN 37-139, Records Disposition Schedule.”

40. In Appendix A, Abbreviation and Acronyms, in the table add after the item “ANGRC Air National Guard Readiness Center” a new entry to read, “BMP—Best Management Practice.”

41. In Appendix A, Terms, add as a new paragraph, before Description of Proposed Action and Alternatives (DOPAA), the following: “Best Management Practices (BMPs)—Under the EIAP, BMPs should be applied in furtherance of 40 CFR 1508.22, Mitigations or to fulfill permit requirements (see also E.O. 12088, “Federal Compliance with Pollution Control Standards).”

Appendix B [Corrected]

42. In Appendix B, paragraph A2.1, correct “permits, state regulatory agency review of plans, and so on.” to read “permits, and state regulatory agency review of plans.”

43. In Appendix B, paragraph A2.3.19, in the first sentence, correct “this attachment” to read “this Appendix.”

44. In Appendix B, paragraph A2.3.26, correct “Defense Environmental Restoration Program (DERP)” to read “Environmental Restoration Account (ERA)—Air Force.”

Appendix C [Corrected]

45. In Appendix C, paragraph A3.1.3, last sentence, correct “HQ USAF/ILEVP” to read “HQ USAF/ILEB.”

46. In Appendix C, paragraph A3.2.2.1, correct “HQ USAF/CEV” to read “HQ USAF/ILEB.”

Janet A. Long,
Air Force Federal Register Liaison Officer.

[FR Doc. 01-7671 Filed 3-27-01; 8:45 am]

BILLING CODE 5001-05-U